NATIONAL CREDIT UNION ADMINISTRATION

Agency Information Collection Activities: Proposed Collection; Comment Request; Consumer Assistance Center

AGENCY: National Credit Union Administration (NCUA).

ACTION: Notice and request for comment.

SUMMARY: The National Credit Union Administration (NCUA), as part of a continuing effort to reduce paperwork and respondent burden, invites the general public and other Federal agencies to comment on the following extension of a currently approved collection, as required by the Paperwork Reduction Act of 1995.

DATES: Written comments should be received on or before August 9, 2021 to be assured consideration.

ADDRESSES: Interested persons are invited to submit written comments on the information collection to Mackie Malaka, National Credit Union Administration, 1775 Duke Street, Suite 6060, Alexandria, Virginia 22314; Fax No. 703-519-8579; or email at PRAComments@NCUA.gov.

FOR FURTHER INFORMATION CONTACT: Address requests for additional information to Mackie Malaka at the address above or telephone 703-548-2704.

SUPPLEMENTARY INFORMATION: OMB Number: 3133-0200.

Title: Consumer Assistance Center.

Type of Review: Extension of a currently approved collection.

Abstract: The Dodd-Frank Wall Street Reform and Consumer Protection Act (Dodd-Frank Act) (Pub. L. 111-203) authorizes the National Credit Union Administration (NCUA) to accept and resolve member complaints. NCUA has a centralized website for the intake of consumer inquiries and complaints under the Consumer Assistance Center, via MyCreditUnion.gov. The Consumer Assistance Center assists consumers with information about federal financial consumer protection and share insurance matters and assists in resolving disputes with credit unions. Consumers can make inquiries or submit a complaint electronically through the MyCreditUnion.gov website. The on-line portal offers a template for consumers to use to aid in identifying their concerns.

Affected Public: Individuals and Households; Private Sector: Not-for-profit institutions.

Estimated No. of Respondents: 14,912.

Estimated No. of Responses per Respondent: 1.

Estimated Total Annual Responses: 14,912.

Estimated Burden Hours per Response: 0.15.

Estimated Total Annual Burden Hours: 2,209.

Reason for Change: Adjustment are being made to provide a current accounting of respondents making inquiries or submissions under this collection of information.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Melane Conyers-Ausbrooks, Secretary of the Board, the National Credit Union Administration, on June 4, 2021.
Dated: June 4, 2021.
Mackie I. Malaka,
NCUA PRA Clearance Officer.

[FR Doc. 2021-12108 Filed 6-8-21; 8:45 am]

BILLING CODE 7535-01-P